DEPARTMENT OF AGRICULTURE

Agricultural Marketing Service

[Docket No. AMS-LP-18-0050]

United States Classes, Standards, and Grades for Poultry

AGENCY: Agricultural Marketing Service, USDA.

ACTION: Notice.

SUMMARY: The U.S. Department of Agriculture's (USDA) Agricultural Marketing Service (AMS) is revising the United States Classes, Standards, and Grades for Poultry, (the poultry standards) to lower the age requirement for the “roaster and roasting chickens” class of poultry and identify a ready-to-cook weight of 5.5 pounds or more. This change is consistent with how the USDA Food Safety and Inspection Service (FSIS) defines “roaster or roasting chickens” for labeling compliance.

DATES: The revised poultry standards are effective August 6, 2018.

FOR FURTHER INFORMATION CONTACT: Richard Lawson, National Poultry Supervisor, Livestock and Poultry Program, AMS, USDA; 1400 Independence Ave. SW; Room 3932-S, STOP 0258; Washington, DC 20250-0258; phone (202) 690-3166; Richard.Lawson@ams.usda.gov.

SUPPLEMENTARY INFORMATION: Section 203(c) of the Agricultural Marketing Act of 1946, as amended (7 U.S.C. 1621 et seq.), directs and authorizes the Secretary of Agriculture “to develop and improve standards of quality, condition, quantity, grade, and packaging and recommend and demonstrate such standards in order to encourage uniformity and consistency in commercial practices.” AMS is committed to carrying out this authority in a manner that facilitates the marketing of agricultural commodities. While the poultry standards do not appear in the Code of Federal Regulations, they—along with other official standards—are maintained by USDA and can be found at https://www.ams.usda.gov/grades-standards. Copies of official standards are also available upon request. To revise the poultry standards, AMS utilizes the procedures it published in the August 13, 1997, Federal Register (62 FR 43439) and in 7 CFR part 36. Because this change to the poultry standards is to ensure consistency with FSIS's definition, public comments are not being sought.

Background

FSIS maintains regulatory authority over the labeling of poultry products under the Poultry Products Inspection Act (PPIA) which prohibits the distribution of poultry products that are adulterated or misbranded (12 U.S.C. 458). In November 2013, the National Chicken Council petitioned FSIS to amend the “roaster chicken class to remove the 8-week minimum age criteria and increase the Ready-to-Cook (RTC) carcass weight to 5.5 pounds.” According to the petition, the existing “roaster” standard—defined at 9 CFR 381.170(a)(1)(iii) as a “young chicken (between 8 and 12 weeks of age), of either sex, with a ready-to-cook carcass weight of 5 pounds or more, that is tender-meated with soft, pliable, smooth-textured skin and breastbone cartilage that is somewhat less flexible than that of a broiler or fryer”—detracted from the orderly and efficient marketing of classes. Specifically, companies were unable to label and market chickens as “roasters” that met all the physical attributes apart from the minimum age requirement. FSIS and AMS completed a review of the petition in July 2014 and concluded that continuous improvements in breeding and poultry management techniques had enabled producers to raise chickens with the characteristics of roasters in under 8 weeks.

On April 13, 2016, FSIS published a final rule in the Federal Register (81 FR 21706) amending the definition and standard of identity for the “roaster or roasting chicken” poultry class, with an effective date of January 1, 2018. AMS is revising its poultry standards definition of roaster from usually 3 to 5 months of age to 5.5 pounds or more and less than 12 weeks of age to maintain consistency with the FSIS regulation.

Dated: July 23, 2018.
Bruce Summers,
Administrator, Agricultural Marketing Service.

[FR Doc. 2018-16249 Filed 8-3-18; 8:45 am]

BILLING CODE 3410-02-P